DEPARTMENT OF AGRICULTURE

Agricultural Marketing Service

7 CFR Part 60

[Docket No. AMS-LS-06-0166; LS-03-04]

RIN 0581-AC26

Mandatory Country of Origin Labeling of Fish and Shellfish

AGENCY: Agricultural Marketing Service, USDA.

ACTION: Interim final rule; reopening of comment period.

SUMMARY: The Agricultural Marketing Service (AMS) is reopening the comment period for 60 days for the interim final rule for mandatory country of origin labeling (COOL) for fish and shellfish covered commodities that was published in the Federal Register on October 5, 2004 (69 FR 59708). The interim final rule requires certain retailers and their suppliers to notify their customers of the country of origin and the method of production (wild and/or farm-raised) of specified fish and shellfish products. The interim final rule also specifies recordkeeping responsibilities for affected retailers and their suppliers. AMS requests general comments on the interim final rule. All affected persons are hereby given notice of the opportunity to submit written data and views concerning the interim final rule. AMS will review the submitted comments and information as it promulgates a final rule for mandatory COOL for fish and shellfish.

DATES: Comments must be submitted on or before August 20, 2007, to be assured of consideration.

ADDRESSES: Comments should be submitted through the internet at http://www.regulations.gov. Send written comments to: Country of Origin Labeling Program, Room 2607-S; Agricultural Marketing Service (AMS), USDA; 1400 Independence Avenue, SW., Washington, DC 20250-0254, or by facsimile to (202) 720-1112. Comments received will be posted on the Web site http://www.regulations.gov. Comments sent to the above location that specifically pertain to the information collection and recordkeeping requirements should also be sent to the Desk Officer for Agriculture, Office of Information and Regulatory Affairs, Office of Management and Budget (OMB), New Executive Office Building, 725 17th Street, NW., Room 725, Washington, DC 20503.

FOR FURTHER INFORMATION CONTACT: Martin O'Connor; Chief, Standards, Analysis, and Technology Branch; Livestock and Seed Program, AMS, USDA, by telephone on (202) 720-4486, or via e-mail to: COOL@usda.gov. Information can also be found at http://www.ams.usda.gov/cool/.

SUPPLEMENTARY INFORMATION: The Farm Security and Rural Investment Act of 2002 (Farm Bill) (7 U.S.C. 7901) and the 2002 Supplemental Appropriations Act (Appropriations Act) (Pub. L. 107-206) amended the Agricultural Marketing Act of 1946 (7 U.S.C. 1621 et seq.) by adding 7 U.S.C. 1638-1638d to direct the Secretary of Agriculture to promulgate regulations by September 30, 2004, requiring retailers to notify their customers of the country of origin of covered commodities. On October 30, 2003, AMS published a proposed rule for mandatory COOL for all covered commodities—beef, lamb, pork, fish, perishable agricultural commodities, and peanuts (68 FR 61944). Subsequently, the FY 2004 Consolidated Appropriations Act (Pub. L. 108-199) delayed the applicability of mandatory COOL for all covered commodities except wild and farm-raised fish and shellfish until September 30, 2006. The Agriculture, Rural Development, Food and Drug Administration, and Related Agencies Appropriations Act of 2006 (Pub. L. 109-97) further delayed the applicability of mandatory COOL for all covered commodities except wild and farm-raised fish and shellfish until September 30, 2008. On October 5, 2004, AMS published an interim final rule (69 FR 59708) for the mandatory COOL program for fish and shellfish. The interim final rule can be found at: http://www.ams.usda.gov/cool/index.htm. The interim final rule became effective on April 4, 2005.

AMS reopened the interim final rule's comment period for 90 days on November 27, 2006 (71 FR 68431). The reopened comment period was limited to comments concerning the economic impacts of the interim final rule, including implementation costs, maintenance costs, the burden of the information collection and recordkeeping requirements, benefits and net economic impacts. Comments and information received as a result of the reopened interim final rule's comment period, to the extent relevant, would be reviewed in connection with any final regulatory action for fish and shellfish and any of the other covered commodities.

In preparation for promulating a final rule for mandatory COOL for fish and shellfish, AMS now seeks comments on general aspects of the interim final rule's provisions. Given that the interim final rule has been in effect for more than 2 years, affected retailers and their suppliers now have considerable experience in complying with the requirements, and have perspective relating to the information that is provided under the program and the program's costs and benefits. AMS invites interested parties to submit comments, data, or other relevant information on the mandatory COOL program set forth in teh interim final rule.

Authority: 7 U.S.C. 1621 et seq.

Dated: June 14, 2007.
Lloyd C. Day,
Administrator, Agricultural Marketing Service.

[FR Doc. 07-3028 Filed 6-15-07; 8:53 am]

BILLING CODE 3410-02-M